CONSUMER PRODUCT SAFETY COMMISSION

CPSC Roundtable on the Freedom of Information Act

AGENCY: Consumer Product Safety Commission.

ACTION: Notice of forum.

SUMMARY: The Consumer Product Safety Commission (Commission or CPSC) will hold a roundtable discussion for CPSC requesters and Freedom of Information Act (FOIA) Office staff to discuss issues related to requests for CPSC FOIA records. CPSC staff invites interested parties to attend and participate in this forum in person or via webinar.

DATES: The forum will take place from 10:30 a.m. to 12 p.m., Eastern Time (ET) on Tuesday, September 20, 2022. Individuals interested in serving as discussants in person or via webinar should contact Bob Dalton at rdalton@cpsc.gov by September 12, 2022. All other individuals who wish to attend the discussion as online observers should register by September 19, 2022. In-person observers do not require registration.

ADDRESSES: The forum will be held in person and via webinar in the Commission's main Hearing Room located on the fourth floor of Bethesda Towers, 4330 East-West Highway, Bethesda, MD 20814. Attendance is free of charge. There are three categories of attendance: discussant (i.e., active participants in the discussion), either online or in person; online observer only; and in-person observer only. Persons interested in being discussants, whether online or in person, should contact Bob Dalton, Senior Attorney Advisor, at rdalton@cpsc.gov.

All persons interested in attending the roundtable online, whether as a discussant or observer only, should register online at: https://cpsc.webex.com/cpsc/onstage/g.php?MTID=ea9ba73e30109ef918dcd5dc66a5c594d. After registering, you will receive a confirmation email containing information about joining the webinar. In-person observer-only attendance does not require registration.

FOR FURTHER INFORMATION CONTACT: Chief FOIA Officer Abioye Mosheim, amosheim@cpsc.gov, or Senior Attorney Advisor Bob Dalton, rdalton@cpsc.gov, 4330 East-West Highway, Bethesda, MD 20814; telephone 301-785-6340.

SUPPLEMENTARY INFORMATION: CPSC FOIA Office (Office) staff is hosting a roundtable discussion on common issues requesters and FOIA Office staff face with FOIA requests. The information collected from the forum will assist staff in making recommendations for improving CPSC's FOIA processes.

I. Background

Attorney General Merrick B. Garland issued new FOIA Guidelines on March 15, 2022.¹ Among other points, the FOIA Guidelines stress that agencies should continue to work with requesters in a “spirit of cooperation” and help requesters understand the FOIA process and the nature and scope of the records the agency maintains. CPSC agrees that it is important for agencies to establish good communication and a cooperative working relationship with FOIA requesters to ensure that the FOIA process is meeting the needs of both requesters and the agency, consistent with law.

¹ https://www.justice.gov/ag/page/file/1483516/download.

Improving communication and working cooperatively with FOIA requesters is an essential part of implementing an efficient and effective FOIA system at CPSC. Good communication with requesters is necessary where the Commission is uncertain about the scope of what is being requested and allows both parties to ensure they have a common understanding of what records are being sought. Many times, FOIA requesters do not know how agency records are organized or what might be involved in searching for the records they seek. Being able to talk through the request and reach an understanding can be very helpful to both the requester and the agency. By improving communication with the requester community, CPSC hopes to strengthen relationships that will allow us to increase our efficiency in processing FOIA requests and to anticipate and address issues that might cause delays.

II. Topics

This FOIA Roundtable will focus on common issues with requesting and processing CPSC FOIA requests, including the scope of FOIA requests and agency jurisdiction, fee categories, requests for expedited processing, essential elements of a perfected FOIA request, clarification process, timing, and how the Office searches for responsive records and what bearing that may have on request formulation. Attendees are invited to suggest additional FOIA-related topics in advance of the roundtable, for inclusion in the discussion.

III. Roundtable Details

A. Time and Place

CPSC staff will hold the forum in person and via webinar from 10:30 a.m.-12 p.m., Eastern Time (ET), on Tuesday, September 20, 2022.

B. Registration

Registration is required to participate as a discussant and to attend via webinar. Registration is not required for in-person observers. If you would like to attend the roundtable discussion as an online observer, but you do not wish to participate as a discussant, please register online by September 19, 2022. (See the ADDRESSES portion of this document for the website link and instructions to register.)

If you would like to participate in the roundtable in person or as online discussant, contact Bob Dalton, Senior Attorney Advisor, at rdalton@cpsc.gov by September 12, 2022, and register by September 12, 2022. (See the ADDRESSES portion of this document for the website link.) Although staff will try to accommodate all persons who wish to participate, the final discussant group will depend on the number of persons who wish to contribute. If necessary for management of the session, CPSC staff may select participants based on considerations such as the total number of volunteers, time constraints, and representation from a wide variety of stakeholder groups and interests. If you have questions regarding participating in the roundtable, please contact Bob Dalton at rdalton@cpsc.gov, or 301-785-6340. Detailed instructions for the webinar participants and other interested parties will be made available on the CPSC's Public Calendar: https://cpsc.gov/newsroom/public-calendar.

Alberta E. Mills,
Secretary, U.S. Consumer Product Safety Commission.

[FR Doc. 2022-17040 Filed 8-8-22; 8:45 am]

BILLING CODE 6355-01-P